DEPARTMENT OF TRANSPORTATION

Federal Aviation Administration

14 CFR Part 71

[Airspace Docket No. 02-ACE-8]

Proposed Establishment of Class E2 and Class E4 Airspace and Modification of Existing Class E5 Airspace; Ainsworth, NE; Correction

AGENCY: Federal Aviation Administration (FAA), DOT.

ACTION: Notice of proposed rulemaking; correction.

SUMMARY: This action corrects an error in the airspace classification of a notice of proposed rulemaking that was published in the Federal Register on Friday, August 23, 2002 (67 FR 54599). The proposal was to establish Class E2 and Class E4 airspace and to modify Class E5 airspace at Ainsworth, NE.

DATES: Comments for inclusion in the Rules Docket must be received on or before December 5, 2002.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register document 02-21576 published on Friday, August 23, 2002 (67 FR 54599) proposed to establish Class E2 and Class E4 airspace and to modify Class E5 airspace at Ainsworth, NE. It has been determined that Class E4 airspace is only applicable when in conjunction with Class D airspace. There is no Class D airspace at Ainsworth, NE. The proposed Class E2 airspace must be redefined to include the proposed Class E4 airspace. The only change from the original Notice of Proposed Rulemaking is the title of the airspace involved.

Accordingly, pursuant to the authority delegated to me, the proposed Class E4 airspace is rescinded and the Class E2 airspace at Ainsworth, NE, as published in the Federal Register Friday, August 23, 2002 (67 FR 54599), (FR Doc. 02-21576), is corrected as follows:

§ 71.1 [Corrected]

On page 54599, Column 3, DEPARTMENT OF TRANSPORTATION section, correct the heading of Airspace Docket No. 02-ACE-8 as follows:

Change “Proposed Establishment of Class E2 and Class E4 Airspace and Modification of Existing Class E5 Airspace; Ainsworth, NE” to read “Proposed Establishment of Class E2 Airspace and Modification of Existing Class E5 Airspace; Ainsworth, NE.”

On page 54600, Column 3, last sentence of last paragraph, correct the definition of Class E2 airspace as follows:

Change “Within a 4.3-mile radius of Ainsworth Municipal Airport” to read “Within a 4.3-mile radius of Ainsworth Municipal Airport; within a 2.4 miles each side of the Ainsworth VOR/DME 197° radial extending from the 4.3-mile radius of Ainsworth Municipal Airport to 7 miles south of the airport; and within 2.4 miles each side of the Ainsworth VOR/DME 348° radial extending from the 4.3-mile radius of Ainsworth Municipal Airport to 7 miles north of the airport.”

On page 45601, Column 1, delete the first paragraph and the entire section under the heading “ACE NE E4 Ainsworth, NE.”

Issued in Kansas City, MO, on October 22, 2002.
Herman J. Lyons, Jr.,
Manager, Air Traffic Division, Central Region.

[FR Doc. 02-28832 Filed 11-12-02; 8:45 am]

BILLING CODE 4910-13-M